DEPARTMENT OF THE INTERIOR

National Park Service

Subsistence Resource Commission; Meeting

AGENCY: National Park Service, Interior.

ACTION: Announcement of Subsistence Resource Commission meeting.

SUMMARY: The Superintendent of Wrangell-St. Elias National Park and Preserve and the Chairperson of the Subsistence Resource Commission for Wrangell-St. Elias National Park announce a forthcoming meeting of the Wrangell-St. Elias National Park Subsistence Resource Commission. The following agenda items will be discussed:

(1) Call to Order (Chairman).

(2) Roll Call: Confirmation of Quorum.

(3) Introduction of Commission members, staff, and guests.

(4) Review Agenda.

(5) Review and approval of minutes from February 22-23, 2000 meeting.

(6) Superintendent's welcome and review of the Commission purpose.

(7) Commission membership status.

(8) Public and other agency comments.

(9) Report on October 2000 SRC Chairs Workshop.

(10) Superintendent's report.

(11) Wrangell-St. Elias National Park and Preserve staff reports.

a. Wildlife Report

b. Fisheries Report

c. Park planning

d. Subsistence staffing

12. Old Business.

a. Possible restrictions of the harvest of ewe sheep.

b. Subsistence Hunting Program Recommendation 97-01: establish minimum residency requirement for resident zone communities.

c. SRC Chairs Customary Trade concerns.

d. Status report on Hunting Plan Recommendation 96-1 and 96-2: migratory bird—fall, spring, and summer harvest.

(13) New Business.

a. Update on Federal Fish Management and Resource monitoring.

b. Review 2000-2001 Federal Subsistence Board Fish Proposals for WRST.

Proposal FP01-14—Restrict subsistence harvest of fish to Copper River estuary.

Proposal FP01-15—Establish C&T in the Chitina Subdistrict for the villages of Chitina, Cantwell, Chistochina, Copper Center, Gakona, Gulkana, Mentasta.

Proposal FP01-16—Remove all seasonal restrictions to Federally qualified rural residents in the Glennallen Subdistrict.

Proposal FP01-17—Revise Federal regulations to implement the court directives allowing for a fishery on Tanada Creek. Requests five changes to the current Federal subsistence fishery regulations for the Batzulnetas subsistence fishery.

Proposal FP01-19 and 20—Revise C&T for the Upper Copper River.

c. Review 2001-2002 Federal Subsistence Board Wildlife proposals

d. Review FSB response to George Midvag letter—re: Slana C&T.

e. Governor's appointment

(14) Public and other agency comments.

(15) Subsistence Resource Commission work session to develop proposals/finalize recommendations.

(16) Set time and place of next Subsistence Resource Commission meeting.

(17) Adjourn meeting.

DATES: The meeting will begin at 9 a.m. on Friday, November 3, 2000, and conclude at approximately 5 p.m. The meeting will reconvene at 9 a.m. on Saturday, November 4, 2000, and adjourn at approximately 5 p.m. The meeting will adjourn earlier if the agenda items are completed.

ADDRESSES: The meeting location is: Yakutat Ranger Station, Yakutat, Alaska.

FOR FURTHER INFORMATION CONTACT: Devi Sharp, Resource Management Specialist, Wrangell-St. Elias National Park and Preserve, P.O. Box 439, Copper Center, Alaska 99573. Phone (907) 822-5234.

SUPPLEMENTARY INFORMATION: The Subsistence Resource Commission is authorized under Title VIII, Section 808, of the Alaska National Interest Lands Conservation Act, Pub. L. 96-487, and operates in accordance with the provisions of the Federal Advisory Committees Act.

Robert L. Arnberger,
Regional Director.

[FR Doc. 00-27785 Filed 10-27-00; 8:45 am]

BILLING CODE 4310-70-P